DEPARTMENT OF DEFENSE

Office of the Secretary

Notice of Availability of The National Missile Defense Deployment Final Environmental Impact Statement

AGENCY: Office of the Secretary, Ballistic Missile Defense Organization, DoD.

ACTION: Notice of availability.

SUMMARY: The Ballistic Missile Defense Organization (BMDO) announces the availability of the National Missile Defense (NMD) Deployment Final Environmental Impact Statement (FEIS). The FEIS assesses the potential impacts associated with the deployment of the NMD system.

DATES: The review period for the FEIS will end on January 16, 2001 and comments must be received by this date.

ADDRESSES: Written comments and inquiries on the FEIS or a request for a copy of the FEIS should be directed to: SMDC-EM-V (Ms. Julia Hudson), U.S. Army Space and Missile Defense Command, PO Box 1500, Huntsville, AL 35807-3801, telephone (256) 955-4822.

FOR FURTHER INFORMATION CONTACT: Ms. Julia Hudson, telephone (256) 955-4822.

SUPPLEMENTARY INFORMATION: The BMDO announced the availability of the National Missile Defense Deployment Draft Environmental Impact Statement (DEIS) on October 1, 1999 (64 FR 190 53364) providing notice that the DEIS was available for comment. The public review period was from October 1, 1999 through January 19, 2000. Public hearings were held October 26 through November 9, 1999. Comments from the DEIS review and public hearings have been considered and included along with responses in the FEIS. Additionally, availability of an Upgraded Early Warning Radar Supplement to the NMD Deployment DEIS was announced on March 3, 2000 (65 FR 43 11560) with the public comment period from March 3, 2000 to May 12, 2000. This analysis and the comments and responses to the supplement to the DEIS have been included in the NMD Deployment FEIS.

The NMD system would be a fixed, land-based, non-nuclear missile defense system with a land and space-based detection system capable of responding to limited strategic ballistic missile threats to the United States. Potential deployment locations for the NMD elements include sites in Alaska and North Dakota. In addition, as the operational requirements are refined other regions may be identified.

The Preferred Alternative is deployment of a NMD system with up to 100 Ground-Based Interceptor (GBI) silos and Battle Management Command and Control (BMC2) facilities at Fort Greely, Alaska; and an X-Band Radar (XBR) at Eareckson Air Station (AS) (Shemya Island), Alaska. Under the Preferred Alternative, the NMD system would make use of the existing Early Warning Radars (EWR), upgraded for NMD and the existing space-based detection system that would be in place at the time of deployment. The existing EWRs are located at Beale Air Force Base (AFB), California, Clear AS, Alaska, and Cape Cod AS, Massachusetts. If the proposed action to modify the EWRS to support a NMD deployment is selected, its implementation is contingent upon the outcome of the Air Force EIS that addresses modernization, maintenance, and sustainment of operations at the three radar facilities. The BMDO would reassess its proposed usage of the EWR facilities in light of the results of the Air Force EIS prior to installation of the NMD modifications. Due to the ongoing development of the operational requirements, proposed In-Flight Interceptor Communication System (IFICS) Data Terminals locations were not identified as the EIS was being drafted. The FEIS therefore analyzed the expected impacts on a programmatic basis. The BMDO will perform supplemental, site-specific environmental analysis for the IFICS data terminals and fiber optic cable line alignments, as required, based on the initial analysis in the FEIS.

Copies of the FEIS have been distributed to Federal, state, and local agencies; public officials; and organizations and individuals that previously requested copies of the DEIS or FEIS. Copies of the FEIS will be available for review at public libraries in communities adjacent to the potential NMD deployment sites. These communities include: Cavalier, Fargo, Grand Forks, and Langdon in North Dakota; Anchorage, Anderson, Delta Junction, Fairbanks, Healy, Kodiak, and Nenana in Alaska; Live Oak, Marysville, and Yuba City in California; Bourne, Falmouth, Mashpee, Sandwich, and West Barnstable in Massachusetts. The library locations and the FEIS are also available on the BMDO internet site:

www.acq.ods.mil/bmdo/bmdolink/html/nmd.html.

Dated: December 11, 2000.
Patricia L. Toppings,
Alternate OSD Federal Register Liaison Officer, Department of Defense.

[FR Doc. 00-32046 Filed 12-14-00; 8:45 am]

BILLING CODE 5001-10-M